DEPARTMENT OF HOMELAND SECURITY

Coast Guard

33 CFR Part 165

[Docket No. USCG-2025-0432]

Safety Zone; Lakeshore State Park, Milwaukee, WI

AGENCY: Coast Guard, DHS.

ACTION: Notification of enforcement of regulation.

SUMMARY: The Coast Guard will enforce the Safety Zone, Lakeshore State Park, Milwaukee, WI on a portion of Lake Michigan in Milwaukee, WI. This action is intended to protect personnel, vessels, and the marine environment from potential hazards created by a land-based fireworks display. During the enforcement period listed below, entry into, transiting, or anchoring within the safety zone is prohibited unless authorized by the Captain of the Port Lake Michigan or a designated representative.

DATES: The regulations in 33 CFR 165.929 will be enforced for the Lakeshore State Park safety zone event listed in item 2 in Table 4 to § 165.929, from 10:00 p.m. to 11:30 p.m., on May 31, 2025.

FOR FURTHER INFORMATION CONTACT: If you have questions about this notice of enforcement, call or email Lieutenant Commander Jessica Anderson, Waterways Management Division, Sector Lake Michigan, U.S. Coast Guard; telephone: (414) 747-7182, email: D09-SMB-SECLAKEMICHIGAN-WWM@uscg.mil.

SUPPLEMENTARY INFORMATION: The Coast Guard will enforce a safety zone regulation in 33 CFR 165.929 for the Lakeshore State Park fireworks event in item 2 in Table 4 to § 165.929 from 10:00 p.m. to 11:30 p.m. on May 31, 2025. The regulation for recurring marine events within the State of Wisconsin in item 2 in Table 4 to § 165.929, specifies the location of the regulated area for this event. All vessels must obtain permission from the Captain of the Port (COTP) Lake Michigan, or designated on-scene representative to enter, move within, or exit this safety zone during the enforcement time listed in this notice of enforcement. Vessels and persons granted permission to enter the safety zone must obey all lawful orders or directions of the COTP Lake Michigan or designated representative. Upon being hailed by the U.S. Coast Guard by siren, radio, flashing light or other means, the operator of a vessel must proceed as directed.

In addition to this notification of enforcement in the Federal Register, the Coast Guard will provide the maritime community with notification of this enforcement period via Broadcast Notice to Mariners. The COTP Lake Michigan may be reached by contacting the Coast Guard Sector Lake Michigan Command Center at (414) 747-7182. An on-scene designated representative may be reached via VHF-FM Channel 16.

Dated: May 22, 2025.
J.B. Parker,
Captain, U.S. Coast Guard, Captain of the Port, Lake Michigan.

[FR Doc. 2025-09643 Filed 5-28-25; 8:45 am]

BILLING CODE 9110-04-P